DEPARTMENT OF HEALTH AND HUMAN SERVICES

Administration for Children and Families

Children's Bureau Proposed Research Priorities for Fiscal Years 2006-2008

AGENCY: Administration on Children, Youth and Families (ACYF), Administration for Children and Families (ACF), HHS.

ACTION: Correction: Notice of proposed child abuse and neglect research priorities for Fiscal Years 2006-2008.

SUMMARY: The Administration for Children and Families published a document in the Federal Register of February 3, 2006 (Volume 71, Number 23) Page 5855-5856 titled “Notice of proposed child abuse and neglect research priorities for Fiscal Years 2006-2008.”

Contact information was omitted from the document.

Comments on this document should be directed to Catherine Howard electronically at choward@acf.hhs.gov. If sending a hard copy, please deliver to: Children's Bureau, Administration on Children, Youth and Families, Administration on Children and Families, U.S. Dept. of Health and Human Services, 1250 Maryland Ave., SW., 8th Floor, Washington, DC 20024. Electronic submissions are preferred.

Dated: February 9, 2006.
Reginia H. Ryan,
Director, Executive Secretariat, Administration on Children, Youth and Families.

[FR Doc. 06-2154 Filed 3-6-06; 8:45 am]

BILLING CODE 4184-01-M